DEPARTMENT OF THE INTERIOR

Fish and Wildlife Service

[FWS-HQ-FAC-2019-N170; FF09F42300 FVWF97920900000 XXX]

Sport Fishing and Boating Partnership Council; Public Meeting by Teleconference

AGENCY: Fish and Wildlife Service, Interior.

ACTION: Notice of teleconference meeting.

SUMMARY: We, the U.S. Fish and Wildlife Service, announce a teleconference meeting of the Sport Fishing and Boating Partnership Council (Council), in accordance with the Federal Advisory Committee Act. The Council's purpose is to advise the Secretary of the Interior, through the Director of the U.S. Fish and Wildlife Service, on aquatic conservation endeavors that benefit recreational resources and recreational boating and that encourage partnerships among industry, the public, and the government. The teleconference meeting is open to the public.

DATES: Teleconference Meeting: Tuesday, January 28, 2020, from 2 p.m. to 4 p.m. Eastern Time.

Deadlines: For deadlines for registration, accommodation requests, or comment submission, please see Public Input under SUPPLEMENTARY INFORMATION.

FOR FURTHER INFORMATION CONTACT: Linda Friar, Designated Federal Officer, by email at linda_friar@fws.gov, by telephone at 703-358-2056, via the Federal Relay Service at 800-877-8339, or by U.S. mail or hand-delivery at the U.S. Fish and Wildlife Service, MS:3C016A, 5275 Leesburg Pike, Falls Church, Virginia 22041.

SUPPLEMENTARY INFORMATION: We, the U.S. Fish and Wildlife Service (Service), announce a teleconference meeting of the Sport Fishing and Boating Partnership Council (Council), in accordance with the Federal Advisory Committee Act (5 U.S.C. Appendix). Established in 1993, the Council advises the Secretary of the Interior, through the Director of the U.S. Fish and Wildlife Service, on aquatic conservation endeavors that benefit recreational resources and recreational boating and that encourage partnerships among industry, the public, and the government.

Meeting Agenda

• General Council business—Approve agenda, review and approve October 2019 meeting minutes, review any pending action items from October 2019 meeting.

• Council Boating Infrastructure—Tier-II ranking panel recommendations and finalize Council recommendations.

• Other Council business:

—Committee reports, as needed,

—Vote on Nominations for three Recreational Boating and Fishing Foundation Council representatives, and

—Agenda items and invitees for March 2019 in-person meeting.

• Public comment and adjourn.

The final agenda and other related meeting information will be posted on the Council's website at https://www.fws.gov/sfbpc/ by January 21, 2019. Summary minutes of the meeting will be maintained by the Designated Federal Officer and will be available for public inspection within 90 days after the meeting at https://www.fws.gov/sfbpc/.

Public Input

If you wish to | You must contact the Council Designated Federal Officer (see FOR FURTHER INFORMATION CONTACT) no later than
Listen to the meeting via telephone (listen-only mode) | January 21, 2020.
Request special accommodations | January 17, 2019.
Submit written information before the teleconference for the Council to consider during the teleconference | January 23, 2020.
Give an oral presentation during the teleconference | January 21, 2020.
Submit a copy of oral statement or expanded statement, or to submit a statement because time constraints prevented presentation during the teleconference | Up to 30 days after the teleconference date.

Submitting Written Information

Interested members of the public may submit relevant information for the Council to consider during the teleconference. Written statements must be received by the Council Designated Federal Officer no later than the date in Public Input so that the information may be made available to the Council for their consideration prior to the teleconference. Written statements must be supplied to the Council Designated Federal Officer via mail (for signed hard copies) or email (acceptable file formats are Adobe Acrobat PDF, MS Word, MS PowerPoint, or rich text file) (see FOR FURTHER INFORMATION CONTACT).

Giving an Oral Presentation

Depending on the number of people who want to comment, the amount of time available for individual oral comments may be limited. Interested parties should contact the Council Designated Federal Officer, in writing (see FOR FURTHER INFORMATION CONTACT), no later than the date in Public Input for placement on the public speaker list. Registered speakers who wish to expand upon their oral statements, or those who wish to speak but can not be accommodated on the agenda, may submit written statements to the Council Designated Federal Officer up to 30 days following the teleconference. Requests to address the Council during the teleconference will be accommodated in the order the requests are received.

Accommodations

The Service is committed to providing access to this teleconference to all participants. Please direct all requests for accommodations to the Council Designated Federal Officer (see FOR FURTHER INFORMATION CONTACT) by close of business on the date in Public Input.

Availability of Public Comments

Before including an address, phone number, email address, or other personal identifying information in your comment, you should be aware that your entire comment—including your personal identifying information—may be made publicly available at any time. You can ask us to withhold your personal identifying information from public review, but we cannot guarantee that we will be able to do so.

Authority

Federal Advisory Committee Act (5 U.S.C. Appendix).

Dated: January 2, 2020.
David Hoskins,
Assistant Director, Fish and Aquatic Conservation Program, U.S. Fish and Wildlife Service.

[FR Doc. 2020-00225 Filed 1-9-20; 8:45 am]

BILLING CODE 4333-15-P